ENVIRONMENTAL PROTECTION AGENCY

[EPA-HQ-OAR-2015-0202; FRL-9925-05-OAR]

Proposed Information Collection Request; Comment Request; Recordkeeping and Reporting Related to E15 (Renewal)

AGENCY: Environmental Protection Agency (EPA).

ACTION: Notice.

SUMMARY: The Environmental Protection Agency (EPA) is planning to submit an information collection request (ICR), “Recordkeeping and Reporting Related to E15 (Renewal)” (EPA ICR No. 2408.03, OMB Control No. 2060-0675) to the Office of Management and Budget (OMB) for review and approval in accordance with the Paperwork Reduction Act (44 U.S.C. 3501 et seq.). Before doing so, EPA is soliciting public comments on specific aspects of the proposed information collection as described below. An Agency may not conduct or sponsor and a person is not required to respond to a collection of information unless it displays a currently valid OMB control number.

DATES: Comments must be submitted on or before May 26, 2015.

ADDRESSES: Submit your comments, referencing Docket ID No. EPA-HQ-OAR-2015-0202, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, (6405A) Environmental Protection Agency, 1200 Pennsylvania Ave. NW., Washington, DC 20460; telephone number: (202) 343-9017; fax number: (202) 343-2800; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Under the Clean Air Act (CAA), EPA granted partial waivers that allow gasoline containing greater than 10 volume percent (vol%) ethanol up to 15 vol% ethanol (E15) to be introduced into commerce for use in model year (MY) 2001 and newer light-duty motor vehicles, subject to certain conditions. EPA issued final rule establishing several measures to mitigate misfueling of other vehicles, engines and equipment with E15 and the potential emissions consequences of misfueling. The rule prohibits the use of gasoline containing more than 10 vol% ethanol in vehicles, engines and equipment that are not covered by the partial waiver decisions. The rule also requires all E15 gasoline fuel dispensers to have a specific label when a retail station or wholesale-purchaser consumer chooses to sell E15. In addition, the rule requires that product transfer documents (PTDs) specifying ethanol content and Reid Vapor Pressure (RVP) accompany the transfer of gasoline blended with ethanol, and a survey of retail stations to ensure compliance with these requirements. The rule also modifies the Reformulated Gasoline (RFG) program by updating the Complex Model to allow fuel manufacturers to certify batches of gasoline containing up to 15 vol% ethanol. This ICR supporting statement addresses associated recordkeeping and reporting items.

Form Numbers: None.

Respondent's obligation to respond: Mandatory (40 CFR part 80).

Estimated number of respondents: 2,103 (total).

Frequency of response: On occasion.

Total estimated burden: 13,270 hours (per year). Burden is defined at 5 CFR 1320.03(b).

Total estimated cost: $1,340,292. $0 in annualized capital or operation & maintenance costs.

Changes in estimates: We expect there will be a decrease in the total estimated respondents, responses and cost to the industry compared to the ICR currently approved by OMB. This change in burden is due to no longer requiring the programing of product transfer codes in this collection. The respondent universe decreased from 6,211 to 2,103, a difference of 4,108 members. The number of responses declined from 44,010,211 to 44,000,103, a difference of 10,108 reports. This reduced the industry burden hours from 37,350 to 13,270. A contributing factor to the lowering of the industry cost was the salaries quoted in the “Bureau of Labor Statistics, May 2013 National Industry-Specific Occupational Employment and Wage Estimates, mean wages.” The salaries that assisted in calculating the cost mix had slightly declined. This change has caused a decrease in the cost per report in this collection from $110 per report to $101 per report. The total estimated cost to industry is $1,340,292 a year, the difference of $2,762,234 calculated from the prior collection approved by OMB.

Dated: March 16, 2015.
Byron Bunker,
Director, Compliance Division, Office of Transportation and Air Quality, Office of Air and Radiation.

[FR Doc. 2015-06769 Filed 3-23-15; 8:45 am]

BILLING CODE 6560-50-P